DEPARTMENT OF COMMERCE

International Trade Administration

[C-401-804]

Final Results of Full Sunset Review: Cut-to-Length Carbon Steel Plate From Sweden

AGENCY: Import Administration, International Trade Administration, U.S. Department of Commerce.

SUMMARY: On July 19, 2006, the Department of Commerce (the Department) published in the Federal Register the preliminary results of the full sunset review of the countervailing duty (CVD) order on cut-to-length carbon steel plate from Sweden, pursuant to section 751(c) of the Tariff Act of 1930, as amended (the Act). As a result of our analysis, the Department preliminarily found that revocation of the CVD order would be likely to lead to the continuation or recurrence of a countervailable subsidy.

We provided interested parties an opportunity to comment on our preliminary results. However, we received no comments from interested parties. As a result, the final results remain the same as the preliminary results of this review.

EFFECTIVE DATE: October 4, 2006.

FOR FURTHER INFORMATION CONTACT: Jacqueline Arrowsmith or Gene Calvert, AD/CVD Operations, Office 6, Import Administration, International Trade Administration, U.S. Department of Commerce, 14th Street & Constitution Avenue, NW., Washington, DC 20230; telephone: (202) 482-5255 or (202) 482-3586, respectively.

SUPPLEMENTARY INFORMATION: On July 19, 2006, the Department published in the Federal Register the preliminary results of the full sunset review of the CVD order on cut-to-length carbon steel plate from Sweden. See Preliminary Results of Full Sunset Review: Cut-to-Length Carbon Steel Plate From Sweden, 71 FR 40992 (July 19, 2006) (Preliminary Results). No interested parties filed case briefs in response to the Department's invitation to comment on the Preliminary Results.

Scope of the Order

The merchandise subject to the CVD order is certain cut-to-length carbon steel plate. These products include hot-rolled carbon steel universal mill plates (i.e., flat-rolled products on four faces or in a closed box pass, of a width exceeding 150 millimeters but not exceeding 1,250 millimeters, and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with plastics or other nonmetallic substances, 4.75 millimeters or more in thickness and a width which exceeds 150 millimeters and measures at least twice the thickness, as currently classifiable in the United States Harmonized Tariff Schedule (HTS) under item numbers 7208.31.0000, 7208.32.0000, 7208.33.1000, 7208.33.5000, 7208.41.0000, 7208.42.0000, 7208.43.0000, 7208.90.0000, 7210.70.3000, 7210.90.9000, 7211.11.0000, 7211.12.0000, 7211.21.0000, 7211.22.0045, 7211.90.0000, 7212.40.1000, 7212.40.5000, and 7212.50.0000. Included are flat-rolled products of non-rectangular cross-section where such cross-section is achieved subsequent to the rolling process (i.e., products which have been “worked after rolling”)—for example, products which have been bevelled or rounded at the edges. Excluded from this review is grade X-70 plate. The HTS item numbers are provided for convenience and customs purposes. The written description remains dispositive.

Final Results of Review

As stated in the Preliminary Results, the Department determined that revocation of the CVD order would be likely to lead to continuation or recurrence of a countervailable subsidy. In addition, we preliminarily determined that the rate likely to prevail is de minimis. As we did not receive any comments from any interested parties regarding the Preliminary Results, we have no reason to reconsider our preliminary decision.

International Trade Commission (ITC) Notification

In accordance with section 752(b)(3) of the Act, we will notify the ITC of the final results of this full sunset review.

Administrative Protective Orders

This notice also serves as the only reminder to parties subject to administrative protective orders (APO) of their responsibility concerning the return or destruction of proprietary information disclosed under APO in accordance with 19 CFR § 351.305. Timely notification of the return or destruction of APO materials or conversion to judicial protective order is hereby requested. Failure to comply with the regulations and terms of an APO is a violation that is subject to sanction.

We are issuing and publishing these final results and this notice of sunset review in accordance with sections 751(c), 752, and 777(i)(1) of the Act.

Dated: September 27, 2006.
James C. Leonard, III,
Acting Assistant Secretary for Import Administration.

[FR Doc. E6-16392 Filed 10-3-06; 8:45 am]

BILLING CODE 3510-DS-P